FEDERAL COMMUNICATIONS COMMISSION

Public Information Collections Approved by Office of Management and Budget

March 28, 2001.

The Federal Communications Commission (FCC) has received Office of Management and Budget (OMB) approval for the following public information collections pursuant to the Paperwork Reduction Act of 1995, Public Law 104-13. An agency may not conduct or sponsor and a person is not required to respond to a collection of information unless it displays a currently valid control number. For further information contact Shoko B. Hair, Federal Communications Commission, (202) 418-1379.

Federal Communications Commission

OMB Control No.: 3060-0439

Expiration Date: 03/31/2004

Title: Regulations Concerning Indecent Communications by Telephone, 47 CFR Section 64.201.

Form No.: N/A.

Respondents: Business or other for-profit; Individuals or household.

Estimated Annual Burden: 10,200 respondents; .166 hours per response (avg.); 1,632 total annual burden hours.

Estimated Annual Reporting and Recordkeeping Cost Burden: $0.

Frequency of Response: On occasion; Third Party Disclosure.

Description: Section 223 of the Communications Act of 1934, as amended imposes fines and penalties on those who knowingly use the telephone to make obscene or indecent communications for commercial purposes. The fines and penalties are applicable to those who use the telephone or permit their telephone to be used, for obscene communications to any person and to those who use the telephone, or permit their telephone to be used, for obscene communications to any person and to those who use the telephone for indecent communications to persons under 18 years of age or to adults without their consent. Section 223 requires telephone companies, to the extent technically feasible, to prohibit access to indecent communications from the telephone of a subscriber who has not previously requested access. 47 CFR Section 64.201 implements the Section 223. Section 64.201 requires that certain common carriers block access to indecent messages unless the subscribe seeks access from the common carrier in writing; requires that adult message service providers notify their carriers of the nature of their programming; and requires providers of adult message services request that their carriers identify it as such in bills to their subscribers. The information requirements are imposed on carriers, adult message service providers and those who solicit their services to ensure that minors are denied access to material deemed indecent. If the requirements were not imposed the Commission would not be able to carry out its responsibilities as mandated in Section 223 of the Act. Obligation to respond: Required to obtain or retain benefits.

OMB Control No.: 3060-0810.

Expiration Date: 03/31/2004.

Title: Procedures for Designation of Eligible Telecommunications Carriers Pursuant to Section 214(e)(6) of the Communications Act of 1934, as amended.

Form No.: N/A.

Respondents: Business or other for-profit.

Estimated Annual Burden: 120 respondents; 51.6 hours per response (avg.); 6200 total annual burden hours.

Estimated Annual Reporting and Recordkeeping Cost Burden: $0.

Frequency of Response: On occasion; Third party disclosure.

Description: The Communications Act of 1934, as amended, mandates that only eligible telecommunications carriers may receive universal service support. Under the Act, state commissions must designate telecommunications carriers subject to their jurisdiction as eligible. Section 214(e)(6), however, requires that the Commission, upon request, designate a common carrier that meet the requirements of section 214 as an eligible telecommunications carrier for a service area designated by the Commission. The Commission must evaluate whether telecommunications carriers requesting such designation pursuant to the Commission's procedures meet the eligibility criteria set forth in the Act. Carriers seeking designation from the Commission pursuant to section 214(e)(6) must demonstrate that they fulfill the requirements of section 214(e)(1). To do so, carriers seeking designation from the Commission must provide a petition containing the information specified in the Commission's Procedures for FCC Designation of Eligible Telecommunications Carriers Pursuant to Section 214(e)(6) of the Communications Act and the Order issued in CC Docket No. 96-45 (FCC 00-208). In addition, carriers seeking designation for service provided on non-tribal lands must provide an affirmative statement from a court of competent jurisdiction or the state commission that the state lacks jurisdiction over the carrier. The Commission will use the information collected to determine whether the telecommunications carriers providing the data are eligible to receive universal service support. Obligation to respond: Mandatory.

Public reporting burden for the collection of information is as noted above. Send comments regarding the burden estimate or any other aspect of the collections of information, including suggestions for reducing the burden to Performance Evaluation and Records Management, Washington, DC 20554.

Federal Communications Commission.
Magalie Roman Salas,
Secretary.

[FR Doc. 01-8315 Filed 4-4-01; 8:45 am]

BILLING CODE 6712-01-U